SMALL BUSINESS ADMINISTRATION

[Declaration of Disaster #3325]

State of Illinois

Henry County and the contiguous counties of Bureau, Knox, Mercer, Rock Island, Stark, and Whiteside constitute a disaster area due to damages caused by flooding that occurred on February 26, 2001 and continued through March 3, 2001. Applications for loans for physical damage as a result of this disaster may be filed until the close of business on May 29, 2001 and for economic injury until the close of business on December 31, 2001 at the address listed below or other locally announced locations: U.S. Small Business Administration, Disaster Area 2 Office, One Baltimore Place, Suite 300, Atlanta, GA 30308.

The interest rates are:

| Percent
For Physical Damage:
Homeowners With Credit Available Elsewhere | 7.000
Homeowners Without Credit Available Elsewhere | 3.5000
Businesses With Credit Available Elsewhere | 8.000
Businesses and Non-Profit Organizations Without Credit Available Elsewhere: | 4.000
Others (Including Non-Profit Organizations) With Credit Available Elsewhere: | 7.000
For Economic Injury:
Businesses and Small Africultural Cooperatives Without Credit Available Elsewhere: | 4.000

The number assigned to this disaster for physical damage is 332506. The number assigned to this disaster for economic injury is 9L2900.

(Catalog of Federal Domestic Assistance Program Nos. 59002 and 59008)
Dated: March 27, 2001.
John Whitmore,
Acting Administrator.

[FR Doc. 01-8223 Filed 4-3-01; 8:45 am]

BILLING CODE 8025-01-U